FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than September 29, 2003.

A. Federal Reserve Bank of Chicago (Phillip Jackson, Applications Officer) 230 South LaSalle Street, Chicago, Illinois 60690-1414:

1. Jason Christopher Nicholas, Atlantic, Iowa; to retain voting shares of Whitney Corporation of Iowa, Atlantic, Iowa, and thereby indirectly retain voting shares of First Whitney Bank and Trust, Atlantic, Iowa.

2. Alfred H. Peterson, III and Jane E. Peterson, Brighton, Michigan; to retain voting shares of FNB Financial Corporation, Three Rivers, Michigan, and thereby indirectly retain voting shares of The First National Bank of Three Rivers, Three Rivers, Michigan.

B. Federal Reserve Bank of St. Louis (Randall C. Sumner, Vice President) 411 Locust Street, St. Louis, Missouri 63166-2034:

1. Wafik William Malek, Manchester, Missouri; to retain voting shares of Gateway Bancshares, Inc., St. Louis, Missouri, and thereby indirectly retain voting shares of Gateway National Bank of St. Louis, St. Louis, Missouri.

2. William L. Wilson Trust and its trustee William Lee Wilson, both of Ava, Illinois; to acquire additional voting shares of Headquarters Holding Company, Ava, Illinois, and thereby indirectly acquire additional voting shares The First National Bank of Ava, Ava, Illinois.

Board of Governors of the Federal Reserve System, September 9, 2003.
Robert deV. Frierson,
Deputy Secretary of the Board.

[FR Doc. 03-23338 Filed 9-12-03; 8:45 am]

BILLING CODE 6210-01-S